DEPARTMENT OF THE INTERIOR

Bureau of Land Management

[LLCO956000.L14200000 BJ0000]

Notice of Stay of Filing of Plat; Colorado

AGENCY: Bureau of Land Management, Interior.

ACTION: Notice.

SUMMARY: On Friday, February 18, 2011, the Bureau of Land Management, (BLM) published a Notice of Stay of Filing of Plat; Colorado in the Federal Register (76 FR 9596) declaring the intent to file certain plats on July 31, 2011. The BLM Colorado State Office is publishing this notice to inform the public that the proposed filing of the plat and field notes of the dependent resurvey and surveys in Township 9 South, Range 93 West, Sixth Principal Meridian, Colorado accepted on August 5, 2010, is hereby postponed in order to extend the period of time for interested parties to communicate with the BLM regarding this proposed filing and to extend the period of time for interested parties to protest this action.

DATES: Unless there are protests of this action, the filing of the plat described in this notice will happen on September 30, 2011.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: If a protest of this dependent resurvey is received prior to the date of the official filing, the official filing will be stayed pending consideration of the merits of the protest. This particular plat will not be officially filed until after all protests have been accepted or dismissed and become final.

Randy Bloom,
Chief Cadastral Surveyor for Colorado.

[FR Doc. 2011-20002 Filed 8-5-11; 8:45 am]

BILLING CODE 4310-JB-P